DEPARTMENT OF COMMERCE

National Institute of Standards and Technology

Information Collection Activities; Submission to the Office of Management and Budget (OMB) for Review and Approval; Comment Request; Organization of Scientific Area Committees for Forensic Science (OSAC) Membership Application

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 14, 2021 during a 60-day comment period. This notice allows for an additional 30 days for public comments.

Agency: National Institute of Standards and Technology (NIST).

Title: Organization of Scientific Area Committees for Forensic Science (OSAC) Membership Application.

OMB Control Number: 0693-0070.

Form Number(s):

Type of Request: Revision and extension of a current information collection.

Number of Respondents: 1,000 per year.

Average Hours per Response: 5 minutes.

Burden Hours: 84 hours.

Needs and Uses: The information requested will allow NIST to fill new positions created within the Organization of Scientific Area Committees for Forensic Science (OSAC) and to replace positions vacated by resignation or rotation. Over 550 OSAC Members participate in the OSAC with up to ⅓ of them being eligible for reappointment or replacement each year. This effort provides a coordinated U.S. approach to the development of scientifically sound forensic science standards and ensures broad participation from forensic science practitioners, researchers, metrologists, quality assurance experts, defense, and prosecution.

Affected Public: Individuals and Households.

Frequency: Once a year.

Respondent's Obligation: Voluntary.

Legal Authority: This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0070.

Sheleen Dumas,
Department PRA Clearance Officer, Office of the Chief Information Officer, Commerce Department.

[FR Doc. 2021-06440 Filed 3-26-21; 8:45 am]

BILLING CODE 3510-13-P